DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

The National Community Anti-Drug Coalition Institute Registry and Annual Survey—New—The Substance Abuse and Mental Health Services Administration's (SAMHSA) Center for Substance Abuse Prevention has established the National Community Anti-Drug Coalition Institute through a grant to the Community Anti-Drug Coalitions of America (CADCA). The purpose of the Registry and Annual Survey is to collect and report on data which identify and describe the types of community coalitions across our Nation, and the activities in which they are involved. This information will help SAMHSA encourage and assist in the development of effective community coalitions and strategies designed to prevent illicit drug and underage alcohol and tobacco use. These data will also permit SAMHSA to address its responsibilities and measure performance as delineated in the HP2010 objective 26-23: to increase the number of communities using partnerships or coalition models to conduct comprehensive substance abuse prevention efforts.

To track progress in achieving this objective, SAMHSA will use these data to develop a national inventory of anti-drug coalitions and partnerships that can be updated annually in order to determine the number of community anti-drug coalitions in operation. Based on the coalition literature and input from the field, the inventory will include information on important characteristics, such as operational status, organizational type, target population served, funding sources, geographic location, and major community sector involvement, including faith, business, school, service, and law sectors. The “snowball” method will be employed to obtain lists of local anti-drug coalitions who will be asked to complete the Web-based survey. The proposed project will yield an electronic directory, developed by experts, to describe the range of operational definitions of “community anti-drug coalitions.” The inventory will be based on a variety of typologies of coalitions and partnerships (including the coalitions who receive grants from the Drug Free Communities Support Program that will encompass the breadth of coalition activities. It is anticipated that the resulting electronic directory will be made available to the field through a Web-based database that will be managed, maintained, and updated by the Institute.

Once the data set is cleaned, a random sample of approximately ten percent of respondents will be selected to participate in a survey verification process. This verification will be conducted by telephone interview.

The annual burden associated with this survey is summarized in the following table.

| Number of respondents | Responses/respondent | Burden/response (hrs.) | Total burden hours
Annual Survey Questionnaire | 7,500 | 1 | 1.0 | 7,500
Survey Verification | 750 | 1 | 0.5 | 375
Total | 7,500 |  |  | 7,875

Written comments and recommendations concerning the proposed information collection should be sent by October 13, 2004 to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: September 3, 2004.
Anna Marsh,
Executive Officer, SAMHSA.

[FR Doc. 04-20597 Filed 9-10-04; 8:45 am]

BILLING CODE 4162-20-P